DEPARTMENT OF ENERGY

Federal Energy Regulatory Commission

[Docket No. RP96-312-039]

Tennessee Gas Pipeline Company; Notice of a Change in Rates

February 2, 2001.

Take notice that on January 26, 2001, Tennessee Gas Pipeline Company (Tennessee), tendered for filing a notice of a change in rates for the October 18, 2000 Negotiated Rate Agreement between Tennessee and Dynegy Energy Marketing and Trade (Dynegy). The notice substitutes a fixed rate in place of a Margin calculation for certain volumes for TGP Service Package No. 35092. The fixed prices listed in the notice are effective from February 1, 2001 through March 31, 2001.

Any person desiring to protest said filing should file a protest with the Federal Energy Regulatory Commission, 888 First Street, NE., Washington, DC 20426, in accordance with Section 385.211 of the Commission's Rules and Regulations. All such protests must be filed on or before February 8, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-3256 Filed 2-7-01; 8:45 am]

BILLING CODE 6717-01-M